NATIONAL CREDIT UNION ADMINISTRATION

Sunshine Act Meeting

Time and Date: 10 a.m., Thursday, September 21, 2006.

Place: Board Room, 7th Floor, Room 7047, 1775 Duke Street, Alexandria, VA 22314-3428.

Status: Open.

Matters To Be Considered: 1. Final Rule: Part 745 of NCUA's Rules and Regulations, Share Insurance Coverage.

Recess: 10:45 a.m.

Time and Date: 11 a.m., Thursday, September 21, 2006.

Place: Board Room, 7th Floor, Room 7047, 1775 Duke Street, Alexandria, VA 22314-3428.

Status: Closed.

Matters To Be Considered: 1. One (1) Insurance Appeal. Closed pursuant to Exemptions (4) and (6).

FOR FURTHER INFORMATION CONTACT: Mary Rupp, Secretary of the Board, Telephone: 703-518-6304.

Mary Rupp,
Secretary of the Board.

[FR Doc. 06-7764 Filed 9-14-06; 3:28 pm]

BILLING CODE 7535-01-M